Proclamation 8143 of May 10, 2007

National Safe Boating Week, 2007

By the President of the United States of America

A Proclamation

Millions of Americans take advantage of and participate in the special beauty of our Nation's waterways. During National Safe Boating Week, we renew our commitment to raising awareness about the importance of making safe and sound boating decisions on the water.

America's rivers, lakes, and oceans are wonderful places for boaters to gather with friends and family while enjoying the outdoors. As they do so, it is important that individuals avoid risky behaviors that can lead to boating accidents. Factors such as careless and reckless operation, inattention, and excessive speed contribute to accidents. To help ensure that individuals stay safe on America's waterways, the United States Coast Guard urges citizens to take basic safety precautions such as wearing a life jacket, participating in a boat safety course, getting a free vessel check, and never boating under the influence of alcohol or drugs. By practicing responsible boating habits, citizens can help contribute to a safer, more enjoyable experience on the water.

In recognition of the importance of safe boating practices, the Congress, by joint resolution approved June 4, 1958 (36 U.S.C. 131), as amended, has authorized and requested the President to proclaim annually the 7-day period prior to Memorial Day weekend as “National Safe Boating Week.”

NOW, THEREFORE, I, GEORGE W. BUSH, President of the United States of America, do hereby proclaim May 19 through May 25, 2007, as National Safe Boating Week. I encourage the Governors of the 50 States and the Commonwealth of Puerto Rico, and officials of other areas subject to the jurisdiction of the United States, to join in observing this week. I also urge all Americans to learn more about safe boating practices and always engage in proper and responsible conduct while on the water.

IN WITNESS WHEREOF, I have hereunto set my hand this tenth day of May, in the year of our Lord two thousand seven, and of the Independence of the United States of America the two hundred and thirty-first.

[FR Doc. 07-2415

Filed 5-14-07; 9:08 am]

Billing code 3195-01-P